DEPARTMENT OF TRANSPORTATION

Federal Aviation Administration

Notice of Release From Federal Surplus Property and Grant Assurance Obligations at Syracuse Hancock International Airport (SYR), Syracuse, New York

AGENCY: Federal Aviation Administration (FAA), DOT.

ACTION: Notice of request to release airport land.

SUMMARY: The FAA proposes to rule and invites public comment on the application for a release of approximately 101.37 acres of federally obligated airport property at Syracuse Hancock International Airport, Syracuse, New York, from conditions, reservations, and restrictions contained in Airport Improvement Program (AIP) grants and the Federal Surplus Property Quitclaim Deed, dated December 30, 1999. This acreage is composed of portions of two parcels. The first parcel consists of 16.96 acres that were acquired by the City of Syracuse though AIP Grant 3-36-0114-049-1997. The second parcel consists of 84.41 acres that were transferred from the United States of America to the City of Syracuse under the provisions of the Defense Base Closure and Realignment Act of 1990. The release will allow the airport to enter into a long-term non-aeronautical lease for light industrial warehousing. The proposed use of land after the release will be compatible with the airport and will not interfere with the airport or its operation.

DATES: Comments must be received on or before October 25, 2021.

FOR FURTHER INFORMATION CONTACT: Comments on this application may be submitted to Robert Costa, Federal Aviation Administration, New York Airports District Office via phone at (718) 995-5778 or at the email address Robert.Costa@faa.gov. Comments on this application may also be mailed or delivered to the FAA at the following address: Evelyn Martinez, Manager, Federal Aviation Administration, New York Airports District Office, Federal Register Comment, 1 Aviation Plaza, Jamaica, New York 11434.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements. The following is a brief overview of the request.

The City of Syracuse requested a release from grant assurance and surplus property obligations to allow a land-use change in use for approximately 101.37 acres of airport property at Syracuse Hancock International Airport to enable the development of light industrial warehousing. Specifically, the release request seeks approval to allow for the permanent non-aeronautical use of the property, a long-term non-aeronautical lease to be entered into for the property; and the release of the 84.41 acres of property, transferred via the aforementioned Quitclaim Deed, from the National Emergency Use Provision (NEUP). The NEUP allows the United States of America the right to make use of the land during any national emergency as declared by the President or Congress. FAA approval of this request, with respect to the aforementioned 84.41 acres, is contingent on the Department of Defense's concurrence that the 84.41 acres is no longer required for aeronautical purposes.

The airport will retain ownership of the 101.37 acres and will receive fair market value rent for the length of the agreement. The rental income will be devoted to airport operations and capital projects. The proposed use of the property will not interfere with the airport or its operation; and will thereby, serve the interests of civil aviation.

Issued in Jamaica, New York, on September 20, 2021.
Evelyn Martinez,
Manager, New York Airports District Office.

[FR Doc. 2021-20638 Filed 9-23-21; 8:45 am]

BILLING CODE 4910-13-P